DEPARTMENT OF DEFENSE

Office of the Secretary

[Transmittal No. 21-15]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 21-15, Policy Justification, and Sensitivity of Technology.

Dated: December 9, 2025.
Stephanie J. Bost,
Alternate OSD Federal Register Liaison Officer, Department of Defense.

BILLING CODE 6001-FR-P

BILLING CODE 6001-FR-C

Transmittal No. 21-15

Notice of Proposed Issuance of Letter of Offer Pursuant to Section 36(b)(1) of the Arms Export Control Act, as amended

(i) Prospective Purchaser: Kingdom of Saudi Arabia

(ii) Total Estimated Value:

Major Defense Equipment * | $ 9 million
Other | $130 million
TOTAL | $139 million

Funding Source: National Funds

(iii) Description and Quantity or Quantities of Articles or Services under Consideration for Purchase:

Major Defense Equipment (MDE):

Ten thousand (10,000) M456 Series, 105mm, High Explosive Anti-Tank Tracer Cartridges

Non-MDE:

Also included are various types of tank, howitzer, and machine gun ammunition; propelling charges; fuzes; primers; grenades; support and test equipment; integration and test support; spare and repair parts; software delivery and support; publications and technical documentation; personnel training and training equipment; United States (U.S.) Government and contractor engineering, technical and logistics support services; storage; and other related elements of logistical and program support.

(iv) Military Department: Army (SR-B-UDA, SR-B-UDC)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: October 11, 2024

* as defined in Section 47(6) of the Arms Export Control Act.

POLICY JUSTIFICATION

Kingdom of Saudi Arabia—Ammunition for Artillery Systems, Machine Guns, and Tanks

The Kingdom of Saudi Arabia has requested to buy ten thousand (10,000) M456 series, 105mm, High Explosive Anti-Tank Tracer cartridges. Also included are various types of tank, howitzer, and machine gun ammunition; propelling charges; fuzes; primers; grenades; support and test equipment; integration and test support; spare and repair parts; software delivery and support; publications and technical documentation; personnel training and training equipment; U.S. Government and contractor engineering, technical and logistics support services; storage; and other related elements of logistical and program support. The total estimated cost is $139 million.

This proposed sale will support U.S. foreign policy and national security objectives by helping to improve the security of a friendly country that continues to be an important force for political stability and economic growth in the Middle East.

The proposed sale will improve Saudi Arabia's capability to meet current and future threats and improve interoperability with systems operated by U.S. Forces and other Gulf countries. Saudi Arabia's continued investment in its defense capabilities is crucial to protecting its borders, energy infrastructure, and its residents. Saudi Arabia will have no difficulty absorbing these munitions into its armed forces.

The proposed sale of this equipment and support will not alter the basic military balance in the region.

This ammunition will come from a combination of U.S. Army stock and new procurement. The procurement vendors are unknown at this time. The purchaser typically requests offsets. Any offset agreement will be defined in negotiations between the purchaser and the contractor.

Implementation of this proposed sale will not require the assignment of any additional U.S. Government or contractor representatives to Saudi Arabia.

There will be no adverse impact on U.S. defense readiness as a result of this proposed sale.

Transmittal No. 21-15

Notice of Proposed Issuance of Letter of Offer Pursuant to Section 36(b)(1) of the Arms Export Control Act

Annex

Item No. vii

(vii) Sensitivity of Technology:

1. The 105mm M456A2 High Explosive, Antitank Multipurpose, with Tracer, Cartridge (DODIC C508) is designed for use against armored targets and contains Composition B Explosive (an explosive consisting of castable mixtures of RDX and TNT) and a copper shaped charge liner inside a steel body. Saudi Arabia will use them in their M60A3 tanks.

2. The 155mm M795 High Explosive Projectile (DODIC D529), will be used in Saudi Arabia's M109 series howitzers. This item is employed against personnel; trucks; electronic surveillance and target acquisition devices; supply points; command and control and communications (C3) installations; and mechanized and armored forces.

3. The 155mm M231 Propelling Charge (DODIC DA12) will be used in Saudi Arabia's M109 series howitzers. The Modular Artillery Charge System (MACS) consists of two propelling charge module types, the M231 and the M232/M232A1, and their associated packaging. The system is compatible with all current and planned 155mm field artillery weapons.

4. The 155mm M232A1 Propelling Charge (DODIC DA13), will be used in Saudi Arabia's M109 series howitzers. The Modular Artillery Charge System (MACS) consists of two propelling charge module types, the M231 and the M232/M232A1, and their associated packaging. The system is compatible with all current and planned 155mm field artillery weapons.

5. The .50 Cal M8 Armor Piercing Incendiary/M20 Armor Piercing Incendiary-Tracer, linked 4/1 (DODIC A576), is machine gun ammunition. The cartridges contain a manganese molybdenum steel core, a point filler of incendiary composition, and a lead-antimony base seal. This configuration combines the functions of an armor piercing bullet and an incendiary bullet, and is used against flammable targets and light-armored or unarmored targets, concrete shelters, and similar bullet-resisting targets. The addition of a tracer in the M20 enables the shooter to follow the projectile trajectory to make aiming corrections.

6. The M67 Fragmentation Hand Grenade (DODIC G881) is an anti-personnel munition used to supplement small arms fire against enemies in close combat.

7. The M739A1 Artillery Point Detonating/Delay Fuze (DODIC N340) will be used in Saudi Arabia's M109 series howitzers. This item is the U.S. Army's preferred, primary fuze for 105mm and 155mm projectiles to address point detonating/delay artillery functions.

8. The M82 Percussion Primer (DODIC N523) will be used in Saudi Arabia's M109 series howitzers.

9. The 120MM Insensitive Munitions High Explosive—Tracer Non-US Inventory will be used in the M1A2 tanks. Insensitive munitions are munitions that are designed to withstand stimuli representative of severe but credible accidents. The current range of stimuli are shock, heat and adjacent detonating munitions.

10. The highest level of classification of defense articles, components, and services included in this potential sale is UNCLASSIFIED.

11. If a technologically advanced adversary were to obtain knowledge of the hardware and software elements, the information could be used to develop countermeasures or equivalent systems which might reduce system effectiveness or be used in the development of a system with similar or advanced capabilities.

12. A determination has been made that the Government of Saudi Arabia can provide substantially the same degree of protection for the sensitive technology being released as the U.S. Government. This sale is necessary in furtherance of the U.S. foreign policy and national security objectives outlined in the Policy Justification.

13. All defense articles and services listed in this transmittal are authorized for release and export to the Kingdom of Saudi Arabia.

[FR Doc. 2025-22604 Filed 12-11-25; 8:45 am]

BILLING CODE 6001-FR-P